DEPARTMENT OF LABOR

Office of the Secretary

Submission for OMB Review; Comment Request; Correction

May 8, 2002.

On Monday, May 6, 2002, the Department of Labor (DOL) published a notice in Federal Register (Vol. 67, No. 87, pages 30401 to 30402) announcing an opportunity to comment on an information collection request (ICR) that was submitted to the Office of Management and Budget (OMB) for review and approval in accordance with the Paperwork Reduction Act of 1995 (Pub. L. 104-13, 44 U.S.C. Chapter 35). The notice announced an opportunity to comment on the ICR for OSHA's Hazard Communication Standard (OMB control number 1218-0072).

The corrections are as follows:

On page 30402, third column, the “Title” line is revised by inserting “1910.” Between “CFR” and “1200;” and inserting “Parts” between “1200” and “1915 * * *”

On page 30402, first column, the “Description” paragraph is revised by inserting “1910.” Between “CFR” and “1200” and inserting “Parts” between “1200;” and “1915 * * *”

Ira L. Mills,
Departmental Clearance Officer.

[FR Doc. 02-12154 Filed 5-14-02; 8:45 am]

BILLING CODE 4510-23-M